DEPARTMENT OF ENERGY

National Coal Council

AGENCY: Office of Fossil Energy, Department of Energy.

ACTION: Notice of open meetings.

SUMMARY: This notice announces a meeting of the National Coal Council (NCC). The Federal Advisory Committee Act requires that public notice of these meetings be announced in the Federal Register.

DATES: Thursday, September 13, 2018 8:20 a.m. to 11:45 a.m.

ADDRESSES: Hilton Norfolk The Main, 100 East Main Street, Norfolk, VA 23510.

FOR FURTHER INFORMATION CONTACT: Joseph Giove, U.S. Department of Energy, E-136/Germantown Building, 19901 Germantown Road, Germantown, MD 20874-1290; Telephone: 301-903-4130.

SUPPLEMENTARY INFORMATION:

Purpose of the Council: The National Coal Council provides advice and recommendations to the Secretary of Energy on general policy matters relating to coal and the coal industry.

Purpose of Meeting: The National Coal Council (the Council) will hold its Fall 2018 Meeting from 8:20 a.m. to 11:45 a.m. Eastern on September 13, 2018. A portion of the meeting will be dedicated to a discussion and vote to finalize two draft reports: “Advancing U.S. Coal Exports: An Assessment of Opportunities to Enhance Exports of U.S. Coal” and “Power Reset: Optimizing the Existing U.S. Coal Fleet to Ensure a Reliable and Resilient Power Grid.” The Council membership will be asked to finalize the reports and forward them to the U.S. Secretary of Energy.

The draft reports will be available on the National Coal Council website on August 31, 2018 at the following URLs:

• U.S. Coal Exports— http://www.nationalcoalcouncil.org/studies/2018/NCC-US-Coal-Exports-2018.pdf

• Power Reset—Existing Coal Fleet— http://www.nationalcoalcouncil.org/studies/2018/NCC-Power-Reset-2018.pdf

Tentative Agenda

1. Call to order and opening remarks by Steven Winberg, NCC Designated Federal Officer, Assistant Secretary for Fossil Energy, U.S. Department of Energy

2. Presentation by Steven Winberg, NCC Designated Federal Officer, Assistant Secretary for Fossil Energy, U.S. Department of Energy

3. Presentation by Matthew Greek, Senior Vice President—Research, Development and Technology, Basin Electric Power Cooperative on Power Reset: Optimizing the Existing Coal Fleet to Ensure a Reliable & Resilient Power Grid

4. Presentation by David Lawson, Vice President Coal, Norfolk Southern Corporation on Advancing U.S Coal Exports: An Assessment of Opportunities to Enhance Export of U.S. Coal

5. Presentation by TBD from Arq Ltd. on Microfine Hydrocarbon: A Novel Approach to Upgrading Coal into Higher-Value Oil Products

6. Presentation by Seth Schwartz, President, Energy Ventures Analysis on Outlook on Future Markets for Coal

7. Public Comment Period and Closing Remarks

8. Adjourn

Attendees are requested to register in advance for the meeting at: http://www.nationalcoalcouncil.org/page-NCC-Events.html.

Public Participation: The meeting is open to the public. If you would like to file a written statement with the Council, you may do so either before or after the meeting. If you would like to make oral statements regarding any item on the agenda, you should contact Joseph Giove, 301-903-4130 or joseph.giove@hq.doe.gov (email). You must make your request for an oral statement at least 5 business days before the meeting. Reasonable provision will be made to include oral statements on the scheduled agenda. The Chairperson of the Council will lead the meeting in a manner that facilitates the orderly conduct of business. Oral statements are limited to 5-minutes per organization and per person.

Minutes: A link to the transcript of the meeting will be posted on the FACA Database website: https://facadatabase.gov/committee/historymeetings.aspx?cid=408&fy=2017.

Signed in Washington, DC, on August 7, 2018.
Latanya Butler,
Deputy Committee Management Officer.

[FR Doc. 2018-17268 Filed 8-10-18; 8:45 am]

BILLING CODE 6450-01-P